DEPARTMENT OF TRANSPORTATION

Federal Motor Carrier Safety Administration

[Docket No. FMCSA-2006-24673]

Notice of Intent To Survey and Observe Medical Examiners Who Certify the Physical Qualifications of Commercial Motor Vehicle Drivers

AGENCY: Federal Motor Carrier Safety Administration (FMCSA), DOT.

ACTION: Notice; request for comments.

SUMMARY: FMCSA announces its plan to request the Office of Management and Budget's (OMB) approval of an information collection (IC) associated with the Agency's Medical Examiner Performance Study. This information collection effort would gather survey, on-site observation, and interview data on the decisionmaking process of medical examiners (MEs) (which include, but are not limited to, medical doctors, doctors of osteopathy, doctors of chiropractic, physician assistants, and advanced practice nurses) who conduct FMCSA physical examinations of commercial motor vehicle (CMV) drivers. The survey would consist of a sample of the several different practitioner types for the purpose of assessing ME knowledge of key elements required for CMV interstate driver certification. The survey would also provide these medical practitioners with an opportunity to report perceived difficulties associated with the CMV driver physical examination process. Site visits would allow for the interview and observation of medical examiners during the actual physical examination and certification decisionmaking process.

DATES: Comments must be received on or before August 18, 2006.

ADDRESSES: You may submit comments identified by DOT Docket Management System (DMS) Docket Number FMCSA-2006-24673 using any of the following methods:

• Web site: http://dmses.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the on-line instructions for submitting comments.

Instructions: All submissions must include the Agency name and docket number for this notice. Note that all comments received will be posted without change to http://dms.dot.gov, including any personal information provided. Please see the Privacy Act heading below.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477). This information is also available at http://dms.dot.gov.

FOR FURTHER INFORMATION CONTACT: Dr. Mary D. Gunnels, Chief, Physical Qualifications Division, (202) 366-4001, maggi.gunnels@dot.gov, FMCSA, Department of Transportation, 400 Seventh Street, SW., Washington, DC 20590-0001. Office hours are from 8:30 a.m. to 5 p.m., Monday through Friday, except Federal holidays.

SUPPLEMENTARY INFORMATION:

Background

FMCSA estimates that there are approximately 4 to 5 million active interstate drivers subject to FMCSA's medical standards. Interstate CMV drivers are required to have a medical examination every two years at a minimum or more frequently at the discretion of the medical examiner. A medical certificate is typically valid for two years after the date of examination, so it is estimated that a minimum of 2 to 3 million medical examinations are conducted each year. In the Safe, Accountable, Flexible, Efficient Transportation Equity Act: A Legacy for Users (SAFETEA-LU) (Pub. L. 109-59, 119 Stat. 1144; August 10, 2005) Congress supports comprehensive improvements in the FMCSA medical program, including improving the quality of the interstate CMV driver physical qualification examination. There has been no research to date that captures the decisionmaking and performance of MEs who determine the physical qualifications of CMV drivers operating throughout the United States. In addition, there has been no systematic consideration of ME perceptions of difficulties or uncertainties associated with the examination process.

A Working Integrated Product Team (WIPT) of ME peers experienced in conducting CMV driver physical qualification examinations will review the methodology and materials for the study, and data gained from 150 direct observations of physical examinations of CMV drivers. Results of the Medical Examiner Performance Study would ultimately be used to develop recommendations for improving the overall physical qualification process and achieve FMCSA's goals of reducing crash rates, injuries, and fatalities involving large trucks and buses.

This initiative is independent from the earlier National Registry of Certified Medical Examiner survey announced September 29, 2005 (70 FR 56964), the primary intent of which is to identify those tasks most critical to competent job performance via a role delineation study.

Respondents: Medical examiners (such as medical doctors, doctors of osteopathy, doctors of chiropractic, physician assistants, and advanced practice nurses) who are currently performing FMCSA physical examinations of CMV drivers.

Estimated Average Burden per Response: Survey—the estimated average burden per response for each survey is 30 minutes. Observation consent forms—the estimated average burden per visit for the medical examiner or driver is 5 to 10 minutes.

Estimated Total Annual Burden: Survey—the estimated total annual burden is 1250 hours for the information collection based on the following requirement for statistical significance: 500 responses from each of at least five of the medical examiner professional categories; [2500 respondents per survey × 30 minutes per respondent = 1250 hours]. Observation consent forms—the estimated total annual burden is 25 to 50 hours for the information collection based on the following requirement for statistical significance: (150 medical examiners + 150 drivers × 5 to 10 minutes per on-site observation = 25 to 50 hours].

Frequency: Each of the described data collection efforts will occur only once.

Request for Comments

Interested parties are invited to send comments regarding any aspect of this information collection, including but not limited to: (1) The necessity and utility of the information collection for the proper performance of the functions of FMCSA and specifically the conduct of the Medical Examiner Performance Study; (2) the accuracy of the estimated burden; (3) ways to enhance the quality, utility, and clarity of the collected information; and (4) ways to minimize the collection burden without reducing the quality of the collected information. Comments submitted in response to this notice will be summarized and included in the request for OMB's clearance for this information collection.

Issued on: June 8, 2006.
David Hugel,
Acting Administrator.

[FR Doc. E6-9512 Filed 6-16-06; 8:45 am]

BILLING CODE 4910-EX-P